DEPARTMENT OF TRANSPORTATION

Federal Aviation Administration

14 CFR Part 39

[Docket No. 2000-NE-57; Amendment 39-12938; AD 2002-22-12]

RIN 2120-AA64

Airworthiness Directives; Titeflex Corporation, Correction

AGENCY: Federal Aviation Administration, DOT.

ACTION: Final rule; correction.

SUMMARY: This document makes a correction to Airworthiness Directive (AD) 2002-22-12, applicable to certain Titeflex Corporation high-pressure and medium-pressure hoses, that was published in the Federal Register on November 8, 2002 (67 FR 68024). An engine model referenced in the Applicability paragraph in the regulatory information is incorrect. This document corrects that reference. In all other respects, the original document remains the same.

EFFECTIVE DATE: November 8, 2002.

FOR FURTHER INFORMATION CONTACT: Terry Fahr, Aerospace Engineer, Boston Aircraft Certification Office, FAA, Engine and Propeller Directorate, 12 New England Executive Park, Burlington, MA 01803-5299; telephone (781) 238-7155; fax (781) 238-7199.

SUPPLEMENTARY INFORMATION: A final rule airworthiness directive FR Doc. 02-28113 applicable to certain Titeflex Corporation high-pressure and medium-pressure hoses, was published in the Federal Register on November 8, 2002 (67 FR 68024). The following correction is needed:

§ 39.13 [Corrected]

On page 68025, in the Regulatory Information, third column, third paragraph, thirteenth line, “General Electric CF6-80C and CFM-56 series, * * *.” is corrected to read “CF6-80C and CFM56-5C, * * *.”

Issued in Burlington, MA, on November 14, 2002.
Mark C. Fulmer,
Acting Manager, Engine and Propeller Directorate, Aircraft Certification Service.

[FR Doc. 02-29673 Filed 11-21-02; 8:45 am]

BILLING CODE 4910-13-P